ENVIRONMENTAL PROTECTION AGENCY

[EPA-HQ-OPP-2016-0630; FRL-10016-59-OMS]

Agency Information Collection Activities; Renewal Request Submitted to OMB for Review and Approval; Comment Request; Compliance Requirement for Child-Resistant Packaging (Renewal)

AGENCY: Environmental Protection Agency (EPA).

ACTION: Notice.

SUMMARY: Environmental Protection Agency (EPA) has submitted an information collection request (ICR), Compliance Requirement for Child-Resistant Packaging (EPA ICR Number 0616.13 and OMB Control Number 2070-0052) to the Office of Management and Budget (OMB) for review and approval in accordance with the Paperwork Reduction Act. This is a proposed extension of the ICR, which is currently approved through December 31, 2021. Public comments were previously requested via the Federal Register on August 17, 2020 during a 60-day comment period. This notice allows for an additional 30 days for public comments. A fuller description of the ICR is given below, including its estimated burden and cost to the public. An Agency may not conduct or sponsor and a person is not required to respond to a collection of information unless it displays a currently valid OMB control number.

DATES: Additional comments med on or before June 7, 2021.

ADDRESSES: Submit your comments to EPA, referencing Docket ID No. EPA-HQ-OPP-2016-0630, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460; telephone number: (703) 347-0159; email address: siu.carolyn@epa.gov.

SUPPLEMENTARY INFORMATION: Supporting documents, including the ICR that explains in detail the information collection activities and the related burden and cost estimates that are summarized in this document, are available in the docket for this ICR. The docket can be viewed online at http://www.regulations.gov or in person at the EPA Docket Center, WJC West., Rm. 3334, 1301 Constitution Ave. NW, Washington, DC. The telephone number for the Docket Center is (202) 566-1744. For additional information about EPA's public docket, visit http://www.epa.gov/dockets.

Abstract: This information collection program is designed to provide EPA with assurances that the packaging of pesticide products sold and distributed to the general public in the United States meets standards set forth by the Agency pursuant to FIFRA. Registrants must certify to the Agency that the pesticide packaging or device regulated by this Act meets these standards.

Form Numbers: None.

Respondents/Affected Entities: Pesticide and other agricultural chemical manufacturing.

Respondent's obligation to respond: Mandatory under FIFRA Section 25(c)(3).

Estimated number of respondents: 31 (total).

Frequency of response: On Occasion.

Total estimated burden: 3,535 hours (per year). Burden is defined at 5 CFR 1320.03(b).

Total estimated cost: $249,292 (per year), includes no annualized capital or operation & maintenance costs.

Changes in the estimates: There is no change in the number of hours in the total estimated respondent burden compared with the ICR currently approved by OMB.

Courtney Kerwin,
Director, Regulatory Support Division.

[FR Doc. 2021-09638 Filed 5-6-21; 8:45 am]

BILLING CODE 6560-50-P